SECURITIES AND EXCHANGE COMMISSION

Issuer Delisting; Notice of Application of Saga Communications, Inc. To Withdraw Its Class A Common Stock, $.01 Par Value, From Listing and Registration on the American Stock Exchange LLC File No. 1-11588

January 15, 2004.

Saga Communications, Inc., a Delaware corporation (“Issuer”), has filed an application with the Securities and Exchange Commission (“Commission”), pursuant to section 12(d) of the Securities Exchange Act of 1934 (“Act”) ¹ and rule 12d2-2(d) thereunder,² to withdraw its Class A Common Stock, $.01 par value (“Security”), from listing and registration on the American Stock Exchange LLC (“Amex” or “Exchange”).

¹ 15 U.S.C. 781(d).

² 17 CFR 240.12d2-2(d).

The Board of Directors (“Board”) of the Issuer approved resolutions on December 12, 2003 to withdraw the Issuer's Security from listing on the Amex and to list the Security on the New York Stock Exchange, Inc. (“NYSE”). The Board states that it is taking such action in order to avoid the direct and indirect costs and the division of the market resulting from dual listing on the Amex and NYSE. In addition, the Board determined that it is in the best interest of the Issuer to list its Security on the NYSE. The Issuer states that it currently expects its Security to be approved for listing on the NYSE on or about January 20, 2004.

The Issuer stated in its application that it has met the requirements of Amex Rule 18 by complying with all applicable laws in the State of Delaware, in which it is incorporated, and with the Amex's rules governing an issuer's voluntary withdrawal of a security from listing and registration.

The Issuer's application relates solely to the withdrawal of the Securities from listing on the Amex and from registration under section 12(b) of the Act ³ shall not affect its obligation to be registered under section 12(g) of the Act.⁴

³ 15 U.S.C. 781(b).

⁴ 15 U.S.C. 781(g).

Any interested person may, on or before February 9, 2004, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵

⁵ 17 CFR 200.30-3(a)(1).

Jonathan G. Katz,
Secretary.

[FR Doc. 04-1325 Filed 1-21-04; 8:45 am]

BILLING CODE 8010-01-M